DEPARTMENT OF HOMELAND SECURITY

Federal Emergency Management Agency

44 CFR Part 65

[Docket ID FEMA-2010-0003]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) makes the final determinations listed below of the modified BFEs for each community listed. These modified BFEs have been published in newspapers of local circulation and ninety (90) days have elapsed since that publication. The Deputy Federal Insurance and Mitigation Administrator has resolved any appeals resulting from this notification.

The modified BFEs are not listed for each community in this notice. However, this final rule includes the address of the Chief Executive Officer of the community where the modified BFE determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities.

These modified BFEs are used to meet the floodplain management requirements of the NFIP and also are used to calculate the appropriate flood insurance premium rates for new buildings built after these elevations are made final, and for the contents in those buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona:
Pima (FEMA Docket No.: B-1129) | Town of Marana (09-09-0233P) | April 29, 2010; May 6, 2010; The Daily Territorial | The Honorable Ed Honea, Mayor, Town of Marana, 11555 West Civic Center Drive, Marana, AZ 85653 | September 3, 2010 | 040118
Pima (FEMA Docket No.: B-1129) | Unincorporated areas of Pima County (09-09-0233P) | April 29, 2010; May 6, 2010; The Daily Territorial | The Honorable Richard Elias, Chairman, Pima County Board of Supervisors, 130 West Congress, 11th Floor, Tucson, AZ 85701 | September 3, 2010 | 040073
Pima (FEMA Docket No.: B-1129) | Unincorporated areas of Pima County (09-09-2406P) | May 7, 2010; May 14, 2010; The Daily Territorial | The Honorable Richard Elias, Chairman, Pima County Board of Supervisors, 130 West Congress, 11th Floor, Tucson, AZ 85701 | September 13, 2010 | 040073
California:
Amador (FEMA Docket No.: B-1129) | City of Ione (09-09-0177P) | May 7, 2010; May 14, 2010; Amador Leader Dispatch | The Honorable Skip Schaufel, Mayor, City of Ione, 1 East Main Street, Ione, CA 95640 | September 13, 2010 | 060016
Colorado:
Adams and Jefferson (FEMA Docket No.: B-1129) | City of Westminster (10-08-0363P) | May 6, 2010; May 13, 2010; Westminster Window | The Honorable Nancy McNally, Mayor, City of Westminster, 4800 West 92nd Avenue, Westminster, CO 80031 | September 10, 2010 | 080008
El Paso (FEMA Docket No.: B-1124) | City of Colorado Springs (10-08-0386P) | April 14, 2010; April 21, 2010; The Gazette | The Honorable Lionel Rivera, Mayor, City of Colorado Springs, P.O. Box 1575, Colorado Springs, CO 80901 | August 19, 2010 | 080060
Florida:
Lake (FEMA Docket No.: B-1129) | Unincorporated areas of Lake County (09-04-7272P) | May 6, 2010; May 13, 2010; Daily Commercial | The Honorable Jennifer Hill, Commissioner, District 1, P.O. Box 7800, Tavares, FL 32778 | September 10, 2010 | 120421
Lee (FEMA Docket No.: B-1124) | Unincorporated areas of Lee County (10-04-2746P) | April 16, 2010; April 23, 2010; The News-Press | The Honorable Tammy Hall, Chairperson, Lee County Board of Commissioners, P.O. Box 398, Fort Myers, FL 33902 | March 31, 2010 | 125124
St. Johns (FEMA Docket No.: B-1129) | Unincorporated areas of St. Johns County (09-04-2501P) | April 26, 2010; May 3, 2010; St. Augustine Record | Mr. Michael Wanchick, St. Johns County Administrator, 500 San Sebastian View, St. Augustine, FL 32084 | August 31, 2010 | 125147
Hawaii: Hawaii (FEMA Docket No.: B-1124) | Unincorporated areas of Hawaii County (09-09-1398P) | April 16, 2010; April 23, 2010; Hawaii Tribune-Herald | The Honorable William P. Kenoi, Mayor, Hawaii County, 25 Aupuni Street, Hilo, HI 96720 | August 23, 2010 | 155166
Missouri:
St. Louis (FEMA Docket No.: B-1129) | City of Chesterfield (09-07-1764P) | May 3, 2010; May 10, 2010; The Countian | The Honorable John Nations, Mayor, City of Chesterfield, 690 Chesterfield Parkway West, Chesterfield, MO 63017 | September 7, 2010 | 290896
St. Louis (FEMA Docket No.: B-1129) | City of Clarkson Valley (09-07-1764P) | May 3, 2010; May 10, 2010; The Countian | The Honorable Scott Douglass, Mayor, City of Clarkson Valley, City Hall, P.O. Box 987, Chesterfield, MO 63006 | September 7, 2010 | 290340
St. Louis (FEMA Docket No.: B-1129) | City of Wildwood (09-07-1764P) | May 3, 2010; May 10, 2010; The Countian | The Honorable Tim Woerther, Mayor, City of Wildwood, 183 Plaza Drive, Wildwood, MO 63040 | September 7, 2010 | 290922
Nevada: Douglas (FEMA Docket No.: B-1129) | Unincorporated areas of Douglas County (09-09-2705P) | April 30, 2010; May 7, 2010; Record Courier | The Honorable Michael A. Olson, Chairman, Douglas County Board of Commissioners, 3605 Silverado Drive, Carson City, NV 89705 | September 7, 2010 | 320008
Oklahoma: Oklahoma (FEMA Docket No.: B-1129) | City of Del City (09-06-1014P) | May 6, 2010; May 13, 2010; The Oklahoman | The Honorable Brian Linley, Mayor, City of Del City, P.O. Box 15177, Del City, OK 73155 | September 10, 2010 | 400233
Texas:
Montgomery (FEMA Docket No.: B-1124) | Unincorporated areas of Montgomery County (09-06-2479P) | April 14, 2010; April 21, 2010; The Courier | The Honorable Alan B. Sadler, Montgomery County Judge, 501 North Thompson Street, Suite 401, Conroe, TX 77301 | August 19, 2010 | 480483
Tarrant (FEMA Docket No.: B-1124) | City of Keller (09-06-2005P) | April 14, 2010; April 21, 2010; The Keller Citizen | The Honorable Pat McGrail, Mayor, City of Keller, 1100 Bear Creek Parkway, Keller, TX 76248 | August 19, 2010 | 480602

(Catalog of Federal Domestic Assistance No. 97.022, “Flood Insurance.”)

Dated: December 10, 2010.
Sandra K. Knight,
Deputy Federal Insurance and Mitigation Administrator, Mitigation, Department of Homeland Security, Federal Emergency Management Agency.

[FR Doc. 2010-32703 Filed 12-28-10; 8:45 am]

BILLING CODE 9110-12-P